DEPARTMENT OF ENERGY

Federal Energy Regulatory Commission

[Project Nos. 11509-054 & 15342-000]

City of Albany, Oregon; Notice of Reasonable Period of Time for Water Quality Certification Application

On August 12, 2025, the City of Albany, Oregon, submitted to the Federal Energy Regulatory Commission (Commission) a copy of a notice that the Oregon Department of Environmental Quality (Oregon DEQ) received a request for a Clean Water Act Section 401(a)(1) water quality certification as defined in 40 CFR 121.5, from the City of Albany, in conjunction with the above captioned project, on April 15, 2025. Pursuant to the Commission's regulations,¹ we hereby notify the Oregon DEQ of the following:

¹ 18 CFR 4.34(b)(5)(iii) and 6.1(b).

Date of Receipt of the Certification Request: April 15, 2025.

Reasonable Period of Time to Act on the Certification Request: One year (April 15, 2026).

If the Oregon DEQ fails or refuses to act on the water quality certification request on or before the above date, then the certifying authority is deemed waived pursuant to section 401(a)(1) of the Clean Water Act, 33 U.S.C. 1341(a)(1).

Dated: August 14, 2025.
Debbie-Anne A. Reese,
Secretary.

[FR Doc. 2025-15766 Filed 8-18-25; 8:45 am]

BILLING CODE 6717-01-P